FEDERAL COMMUNICATIONS COMMISSION

47 CFR Part 76

[CS Docket No. 98-120, CS Docket No. 00-96; CS Docket No. 00-2, FCC 01-22]

Carriage of Digital Television Broadcast Signals

AGENCY: Federal Communications Commission.

ACTION: Final rule; announcement of effective date.

SUMMARY: This document announces the effective date of certain sections of the Commission's broadcast signal carriage rules, 47 CFR 76.5(b), 76.56(e), 76.57, 76.62, 76.64, 76.922, and 76.1603(c) which were amended to require that a digital-only television station may assert its right to mandatory carriage. Specifically, new television stations that transmit only digital signals, and current television stations that return their analog spectrum allocation and convert to digital operations, must be carried on cable systems. Certain sections of these rules contained information collection requirements that required the approval of the Office of Management and Budget (“OMB”) before they could become effective. These sections of the broadcast signal carriage rules have been approved by OMB and become effective on September 25, 2001.

DATES: The amendments to 47 CFR 76.5(b), 76.56(e), 76.57, 76.62, 76.64, 76.922, and 76.1603(c), published at 66 FR 16533 (March 26, 2001), become effective on September 25, 2001.

FOR FURTHER INFORMATION CONTACT: Eloise Gore of the Consumer Protection and Competition Division, Cable Services Bureau at (202) 418-7200, TTY (202) 418-7172, or via Internet at egore@fcc.gov.

SUPPLEMENTARY INFORMATION: On January 18, 2001, the Commission adopted a Report and Order amending its rules to require cable systems to carry the digital signals of local television broadcast stations under the circumstances described in the Report and Order. A summary of the Report and Order was published in the Federal Register at 66 FR 16533 (March 26, 2001). The Order adopted amendments to 47 CFR 76.5(b), 76.56(e), 76.57, 76.62, 76.64, 76.922, and 76.1603(c) to implement the new requirements for carriage and retransmission consent. The rules cover a wide range of topics including: carriage obligations and definitions, channel positioning, retransmission consent, cable rates, and notice to customers. The rule sections contained information collection requirements that required OMB approval before they could become effective. OMB approved the information collection requirements on September 14, 2001. See OMB No. 3060-0844. Accordingly, amendments to sections 76.5(b), 76.56(e), 76.57, 76.62, 76.64, 76.922, and 76.1603(c) of the rules, become effective on September 25, 2001. This document constitutes publication of the effective date of those sections.

List of Subjects in 47 CFR Part 76

Cable television, Carriage, Digital television, Mandatory carriage, Television broadcast stations.

Federal Communications Commission.
Magalie Roman Salas,
Secretary.

[FR Doc. 01-23971 Filed 9-24-01; 8:45 am]

BILLING CODE 6712-01-P